DEPARTMENT OF THE TREASURY

Office of Foreign Assets Control

Sanctions Actions Pursuant to Executive Order of September 23, 2001, “Blocking Property and Prohibiting Transactions With Persons Who Commit, Threaten To Commit, or Support Terrorism

AGENCY: Office of Foreign Assets Control, Treasury.

ACTION: Notice.

SUMMARY: The Department of the Treasury's Office of Foreign Assets Control (OFAC) is publishing the names of 2 individuals whose property and interests in property are blocked pursuant to executive order of September 23, 2001, “Blocking Property and Prohibiting Transactions With Persons Who Commit, Threaten To Commit, or Support Terrorism.”

DATES: OFAC's actions described in this notice were effective on May 19, 2017.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic Availability

The SDN List and additional information concerning OFAC sanctions programs are available from OFAC's Web site (www.treas.gov/ofac).

Notice of OFAC Actions

On May 19, 2017, OFAC blocked the property and interests in property of the following 2 individuals pursuant to E.O. 13224, “Blocking Property and Prohibiting Transactions With Persons Who Commit, Threaten To Commit, or Support Terrorism”:

Individuals

1. AL-ARADAH, Khalid Ali Mabkhut (a.k.a. AL-ARADAH, Khalid Ali; a.k.a. AL-ARADEH, Khalid; a.k.a. AL-ARRADAH, Khalid; a.k.a. ARADA, Khalid), Marib, Marib Governorate, Yemen; DOB 01 Jan 1965; alt. DOB 01 Aug 1957; alt. DOB 01 Jan 1957; nationality Yemen; Gender Male (individual) [SDGT] (Linked To: AL-QA'IDA IN THE ARABIAN PENINSULA).

2. AL-HAMID, Hashim Muhsin Aydarus (a.k.a. AL HAMID, Hashim; a.k.a. AL-AIDAROOS, Hashim Mohsen; a.k.a. ALHAMAD, Hashem Mohssein Idroos; a.k.a. ALHAMED, Hossin Mohsen; a.k.a. ALHAMID, Hashim; a.k.a. AL-HAMID, Mohsan; a.k.a. AL-HAMSHI, Hashim al-Hamid; a.k.a. ALHMAID, Housin Mohsein; a.k.a. IDAROOS, Hashim Mohsen; a.k.a. “ABU TAHIR”), Al Ghaydah, al-Mahrah Governorate, Yemen; Shabwah Governorate, Yemen; Mansoura, Aden, Yemen; Mukalla, Hadramawt Governorate, Yemen; Abyan Governorate, Yemen; Marib Governorate, Yemen; DOB 12 Dec 1985; POB Yemen; nationality Yemen; Gender Male; National ID No. 16010003042 (Yemen) (individual) [SDGT] (Linked To: AL-QA'IDA IN THE ARABIAN PENINSULA).

Dated: May 19, 2017.
Andrea Gacki,
Acting Director, Office of Foreign Assets Control.

[FR Doc. 2017-10635 Filed 5-23-17; 8:45 am]

BILLING CODE 4811-AL-P